DEPARTMENT OF COMMERCE

National Oceanic and Atmospheric Administration

RIN 0648-XB082

Southern California Hook and Line Survey; Public Meeting

AGENCY: National Marine Fisheries Service (NMFS), National Oceanic and Atmospheric Administration (NOAA), Commerce.

ACTION: Notice of public meeting.

SUMMARY: The National Marine Fisheries Service, Northwest Fisheries Science Center (NWFSC) will hold a peer review meeting to evaluate the Southern California Shelf Rockfish Hook and Line Survey which was designed to collect fishery-independent data for use in the stock assessments of groundfish associated with rocky habitats.

DATES: The Southern California Hook and Line Survey review meeting will be held beginning at 8 a.m., Wednesday, April 4, 2012 and end at 5:30 p.m. or as necessary to complete business for the day. The review meeting will reconvene on Thursday, April 5, 2012 at 8 a.m. and will adjourn by 5 p.m.

ADDRESSES: The Southern California Hook and Line Survey review meeting will be held at the Northwest Fisheries Science Center, 2725 Montlake Blvd. E., Seattle, WA 98112-2097; telephone: (206) 860-3200.

FOR FURTHER INFORMATION CONTACT: Ms. Stacey Miller, NMFS Northwest Fisheries Science Center; telephone: (541) 961-8475; or Mr. John Harms, Northwest Fisheries Science Center (NWFSC); telephone: (206)-860-3414.

SUPPLEMENTARY INFORMATION: The peer review meeting will be held to: (1) Evaluate the Southern California Hook and Line survey design and protocols; (2) examine the analytical methods used to generate rockfish abundance indices; and, (3) provide suggestions regarding potential expansion of the survey's geographical range and species for which abundance indices are generated—particularly for data-poor and data-limited species.

Although non-emergency issues not contained in the meeting agenda may come before the review meeting participants for discussion, those issues may not be the subject of formal review action during this meeting. Actions of the review participants will be restricted to those issues specifically listed in this notice and any issues arising after publication of this notice that require emergency action under section 305(c) of the Magnuson-Stevens Fishery Conservation and Management Act, provided the public has been notified of the workshop participants' intent to take final action to address the emergency.

Special Accommodations

This meeting is physically accessible to people with disabilities. Requests for sign language interpretation or other auxiliary aids should be directed to Ms. Stacey Miller at (541) 961-8475 at least 5 days prior to the meeting date.

Dated: March 13, 2012.
Tracey L. Thompson,
Acting Director, Office of Sustainable Fisheries, National Marine Fisheries Service.

[FR Doc. 2012-6403 Filed 3-15-12; 8:45 am]

BILLING CODE 3510-22-P